DEPARTMENT OF ENERGY

Secretary of Energy Advisory Board; Notice of Open Teleconference Meeting

AGENGY: Department of Energy.

ACTION: Notice.

SUMMARY: This notice announces a open teleconference meeting of the Secretary of Energy Advisory Board. The Federal Advisory Committee Act (Public Law 92-463, 86 Stat. 770), requires that agencies publish these notices in the Federal Register to allow for public participation. The purpose of the teleconference is to discuss the interim findings and recommendations of the Secretary of Energy Advisory Board's National Ignition Facility Laser System Task Force.

Note: Copies of the interim findings and recommendations of the National Ignition Facility Laser System Task Force may be obtained from the following internet address http://www.hr.doe.gov/seab/ or by contacting the Office of the Secretary of Energy Advisory Board at (202) 586-7092.

Name: Secretary of Energy Advisory Board.

EFFECTIVE DATE: Thursday, January 20, 2000, 1:30 pm—3 pm, Eastern Standard Time.

ADDRESSES: Participants may call the Office of the Secretary of Energy Advisory Board at (202) 586-7092 to reserve a teleconference line and receive a call-in number. Public participation is welcomed. However, the number of teleconference lines are limited and are available on a first come basis.

FOR FURTHER INFORMATION CONTACT: Betsy Mullins, Executive Director, or Richard Burrow, Deputy Director, Secretary of Energy Advisory Board (AB-1), US Department of Energy, 1000 Independence Avenue, SW, Washington, DC 20585, (202) 586-7092 or (202) 586-6279 (fax).

SUPPLEMENTARY INFORMATION: The purpose of the Secretary of Energy Advisory Board (The Board) is to provide the Secretary of Energy with essential independent advice and recommendations on issues of national importance. The Board and its subcommittees provide timely, balanced, and authoritative advice to the Secretary of Energy on the Department?s management reforms, research, development, and technology activities, energy and national security responsibilities, environmental cleanup activities, and economic issues relating to energy. During the open teleconference meeting the Board will discuss the interim findings and recommendations of the National Ignition Facility (NIF) Laser System Task Force. The NIF Laser System Task Force, a subcommittee of the Secretary of Energy Advisory Board, was formed to provide independent external advice and recommendations to the Board on the options to complete the National Ignition Facility Project; to recommend the best technical course of action; and to review and assess the risks of successfully completing the NIF Project.

On January 20, the Board will conduct a teleconference to discuss the findings and recommendations contained in the interim report of the NIF Laser System Task Force. The interim report of the NIF Task Force will address the engineering and management aspects of the proposed method for accomplishing the assembly and installation of the NIF laser system.

Tentative Agenda

Thursday, January 20, 2000.

1:30 pm-1:40 pm—Welcome & Opening Remarks—Mr. Andrew Athy, Chairman of the Secretary of Energy Advisory Board

1:40 pm-2 pm—Overview of the National Ignition Facility Laser System Task Force's Interim Findings and Recommendations—Dr. John McTague, NIF Task Force Chairman

2:00 pm-2:30 pm—Public Comment Period

2:30 pm-3 pm—Board Review & Comment and Action—Mr. Andrew Athy, Chairman of the Secretary of Energy Advisory Board

3 pm—Adjourn

This tentative agenda is subject to change.

Public Participation: In keeping with procedures, members of the public are welcome to observe the business of the Secretary of Energy Advisory Board and submit written comments or comment during the scheduled public comment period. The Chairman of the Board is empowered to conduct the meeting in a fashion that will, in the Chairman's judgment, facilitate the orderly conduct of business. During its open teleconference meeting, the Board welcomes public comment. Members of the public will be heard in the order in which they sign up at the beginning of the meeting. The Board will make every effort to hear the views of all interested parties. You may submit written comments to Betsy Mullins, Executive Director, Secretary of Energy Advisory Board, AB-1, US Department of Energy, 1000 Independence Avenue, SW, Washington, DC 20585. This notice is being published less than 15 days before the date of the meeting due to the late resolution of programmatic issues.

Minutes: A copy of the minutes and a transcript of the open teleconference meeting will be made available for public review and copying approximately 30 days following the meeting at the Freedom of Information Public Reading Room, 1E-190 Forrestal Building, 1000 Independence Avenue, SW, Washington, DC, between 9 am and 4 pm, Monday through Friday except Federal holidays. Further information on the Secretary of Energy Advisory Board and its subcommittees may be found at the Board's web site, located at http://www.hr.doe.gov/seab.

Issued at Washington, DC, on January 13, 2000.
Rachel M. Samuel,
Deputy Advisory Committee Management Officer.

[FR Doc. 00-1242 Filed 1-18-00; 8:45 am]

BILLING CODE 6450-01-P